DEPARTMENT OF COMMERCE

Bureau of Economic Analysis

Agency Information Collection Activities; Submission to the Office of Management and Budget (OMB) for Review and Approval; Comment Request; Services Surveys: BE-29, Annual Survey of Foreign Ocean Carriers' Expenses in the United States

AGENCY: Bureau of Economic Analysis, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 29, 2021.

ADDRESSES: Interested persons are invited to submit written comments to Christopher Stein, Chief, Services Surveys Branch, Bureau of Economic Analysis, by email to christopher.stein@bea.gov or PRAcomments@doc.gov. Please reference OMB Control Number 0608-0012 in the subject line of your comments. Do not submit Confidential Business Information or otherwise sensitive or protected information.

FOR FURTHER INFORMATION CONTACT: Requests for additional information or specific questions related to collection activities should be directed to Christopher Stein, Chief, Services Surveys Branch, Bureau of Economic Analysis, 301-278-9189, or via email at christopher.stein@bea.gov.

SUPPLEMENTARY INFORMATION:

I. Abstract

The Annual Survey of Foreign Ocean Carriers' Expenses in the United States (BE-29) collects data from U.S. agents of foreign ocean carriers that handled 40 or more foreign ocean carrier port calls during the year, or had total covered expenses of $250,000 or more during the year for all foreign ocean vessels handled by the U.S. agent.

The data are needed monitor trade in transport services, to analyze the impact of U.S. trade on the U.S. and foreign economies, to compile and improve the U.S. economic accounts, to support U.S. commercial policy on trade in transport services, to conduct trade promotion, and to improve the ability of U.S. businesses to identify and evaluate market opportunities. The data are used in estimating the transport services component of the U.S. international transactions accounts (ITAs) and national income and product accounts (NIPAs).

The Bureau of Economic Analysis (BEA) is proposing no additions or modifications to the information collected on the current BE-29. The language in the instructions and definitions will be reviewed and adjusted as necessary to clarify survey requirements.

BEA proposes to change the due date of the survey to 45 days after the close of each year from 90 days, beginning with the reporting period for the 2021 year, which will be collected in 2022. Shortening the reporting timeline will allow BEA to produce more accurate and complete trade in transport services statistics in the ITAs, which is critical information for policymakers' timely decisions on international trade policy. The earlier due date will allow BEA to validate the data and integrate it into the statistics in time for the annual update of the ITAs, improving the accuracy of both the aggregates and the country detail and reducing revisions in subsequent statistical releases.

BEA estimates there will be no change in the average number of burden hours per response, which is currently estimated to be 3 hours. The language in the instructions and definitions will be reviewed and adjusted as necessary to clarify survey requirements.

II. Method of Collection

BEA contacts potential respondents by mail in December of the preceding year. Respondents would be required to file the completed BE-29 forms within 45 days after the end of the year. Reports will be required from U.S. agents of foreign ocean carriers that handled 40 or more foreign ocean carrier port calls during the year or had covered expenses of $250,000 or more during the year for all foreign ocean vessels handled by the U.S. agent. Entities required to report will be contacted individually by BEA. Entities not contacted by BEA have no reporting responsibilities.

BEA offers its electronic filing option, the eFile system, for use in reporting on Form BE-29. For more information about eFile, go to www.bea.gov/efile. In addition, BEA posts all its survey forms and reporting instructions on its website, www.bea.gov/ssb. These may be downloaded, completed, printed, and submitted via fax or mail.

III. Data

OMB Control Number: 0608-0012.

Form Number(s): BE-29.

Type of Review: Regular submission.

Affected Public: U.S. agents of foreign ocean carriers.

Estimated Number of Respondents: 80 annually (70 reporting mandatory data, and 10 that would file exemption claims or voluntary responses).

Estimated Time per Response: 3 hours is the average for those reporting data and one hour is the average for those filing an exemption claim. Hours may vary considerably among respondents because of differences in company size and complexity.

Estimated Total Annual Burden Hours: 220.

Estimated Total Annual Cost to Public: $0.

Respondent's Obligation: Mandatory.

Legal Authority: International Investment and Trade in Services Survey Act (Pub. L. 94-472, 22 U.S.C. 3101-3108, as amended).

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-18630 Filed 8-27-21; 8:45 am]

BILLING CODE 3510-06-P